DEPARTMENT OF ENERGY

Federal Energy Regulatory Commission

[Project No. 9842-006]

Mr. Ray F. Ward; Notice of Scoping Meetings and Environmental Site Review and Soliciting Scoping Comments

Take notice that the following hydroelectric application has been filed with the Commission and is available for public inspection.

a. Type of Application: Minor New License.

b. Project No.: 9842-006.

c. Date Filed: August 28, 2014.

d. Applicant: Mr. Ray F. Ward.

e. Name of Project: Ward Mill Hydroelectric Project.

f. Location: On the Watauga River, in the Township of Laurel Creek, Watauga County, North Carolina. The project does not occupy lands of the United States.

g. Filed Pursuant to: Federal Power Act, 16 U.S.C. 791(a)-825(r).

h. Applicant Contact: Andrew C. Givens, Cardinal Energy Service, Inc., 620 N. West St., Suite 103, Raleigh, North Carolina 27603, (919) 834-0909.

i. FERC Contact: Adam Peer, (202) 502-8449 or adam.peer@ferc.gov.

j. Deadline for Filing Scoping Comments: May 21, 2015.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-9842-006.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Ward Mill Project consists of the following facilities: (1) A 130-foot-long, 20-foot-high rock and concrete dam; (2) an impoundment with a surface area of 4.6 acres and an estimated gross storage capacity of 16.3 acre-feet; (3) a 14-foot-long, 5-foot-wide, and 7.5-foot-tall penstock made of rock, reinforced concrete and steel; (4) a 60-foot-long, 20-foot-wide powerhouse integrated into the south end of the dam, containing two generating units with a total capacity of 168 kW; (5) a 45-foot-long, 12.48-kilovolt transmission line; and (6) appurtenant facilities. The project is estimated to generate from below 290,000 to over 599,000 kilowatt-hours annually. The dam and existing facilities are owned by the applicant. No new project facilities are proposed.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process

The Commission intends to prepare an environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

DATE: Tuesday, April 21, 2015.

TIME: 1 p.m. (EDT).

PLACE: Watauga County Center.

ADDRESS: 971 W. King Street, Boone, NC 28607.

Public Scoping Meeting

DATE: Tuesday, April 21, 2015.

TIME: 7 p.m. (EDT).

PLACE: Watauga County Center.

ADDRESS: 971 W. King Street, Boone, NC 28607.

Copies of the Scoping Document (SD1) outlining the subject areas to be addressed in the EA were distributed to the parties on the Commission's mailing list. Copies of the SD1 will be available at the scoping meeting or may be viewed on the web at http://www.ferc.gov using the “eLibrary” link (see item m above).

Environmental Site Review

The Applicant and FERC staff will conduct a project Environmental Site Review. The time and location of this meeting is as follows:

PROJECT: Ward Mill Hydroelectric Project.

DATE: Tuesday, April 21, 2015.

TIME: 3:30 p.m. (EDT).

LOCATION: Watauga County Center Parking Lot, 971 W. King Street, Boone, NC 28607.

All interested individuals, organizations, and agencies are invited to attend. All participants should meet at the time and location specified above. All participants are responsible for their own transportation to the site. Anyone with questions about the Environmental Site Review should contact Andrew C. Givens, Cardinal Energy Service, Inc., 620 N. West St., Suite 103, Raleigh, North Carolina 27603, (919) 834-0909 on or before April 14, 2015.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: March 18, 2015.
Kimberly D. Bose,
Secretary.

[FR Doc. 2015-06742 Filed 3-24-15; 8:45 am]

BILLING CODE 6717-01-P